DEPARTMENT OF ENERGY

Federal Energy Regulatory Commission

[Docket Nos. EC05-122-000, et al.]

Vermont-Hydro-electric Power Authority, et al.; Notice of Application

February 23, 2006.

The following filings have been made with the Commission. The filings are listed in ascending order within each docket classification.

1. Vermont-Hydro-Electric Power Authority

[Docket No. EC05-122-000]

Take notice that on February 13, 2006, Vermont Hydro-electric Power Authority tendered for filing a notice of withdrawal for an Application under section 203 of the Federal Power Act, submitted on August 22, 2005.

Comment Date: 5 p.m. Eastern Time on March 6, 2006.

2. Liberty Electric Power, LLC

[Docket No. EC06-11-000]

Take notice that on February 16, 2006, Liberty Electric Power, LLC (Liberty) tendered for filing a supplement to their October 21, 2005 Application by asking for an additional 60-day period in order to allow the parties to close the Transaction on or before April 28, 2006.

Comment Date: 5 p.m. Eastern Time on March 3, 2006.

3. Eagle Energy Partners I, L.P.; Eagle Energy Management, LLC; LBMB Partners AIV I, L.P.; LBMB Fund (B) AIV I, L.P.; LBMB Fund AIV I, L.P.; LBMB Capital Partners V AIV I, L.P.; LB I Group Inc.

[Docket No. EC06-84-000]

Take notice that on February 17, 2006, Eagle Energy Partners I, L.P., Eagle Energy Management, LLC and LBMB Partners AIV I, L.P. LBMB Fund (B) AIV I, L.P., LBMB Fund AIV I, L.P., LBMB Capital Partners V AIV I, L.P. and LB I Group Inc (collectively, Applicants) submitted an application pursuant to section 203 of the Federal Power Act for authorization for a change in Eagle's ownership in which LBMB will acquire limited partnership interests in Eagle and limited liability company membership interests in Eagle Management. The Applicants have requested privileged treatment of certain information and documentation submitted with the application.

Comment Date: 5 p.m. Eastern Time on March 10, 2006.

4. Duquesne Conemaugh, LLC

[Docket No. EG06-28-000]

Take notice that on February 7, 2006, Duquesne Conemaugh, LLC tendered for filing additional information to its EWG filing submitted on January 30, 2006.

Comment Date: 5 p.m. Eastern Time on March 6, 2006.

5. KGen Enterprise LLC

[Docket No. EG06-37-000]

Take notice that on February 10, 2006, KGen Enterprise LLC submitted a Notice of Self-Recertification of Exempt Wholesale Generator Status.

Comment Date: 5 p.m. Eastern Time on March 3, 2006.

6. BlueRock Energy, Inc.

[Docket No. ER06-606-001]

Take notice that on February 17, 2006, BlueRock Energy, Inc. submitted an amendment to their Petition for Acceptance of Initial Rate Schedule, Waivers and Blanket Authority filed February 2, 2006.

Comment Date: 5 p.m. Eastern Time on March 1, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E6-2878 Filed 2-28-06; 8:45 am]

BILLING CODE 6717-01-P